DEPARTMENT OF TRANSPORTATION

Federal Railroad Administration

49 CFR Part 269

[Docket No. FRA-2016-0023, Notice No. 3]

RIN 2130-AC60

Competitive Passenger Rail Service Pilot Program

AGENCY: Federal Railroad Administration (FRA), U.S. Department of Transportation (DOT).

ACTION: Proposed rule; notice of public hearing and extension of comment period.

SUMMARY: On June 22, 2016, FRA published a Notice of Proposed Rulemaking (NPRM) that would implement a pilot program for competitive selection of eligible petitioners in lieu of Amtrak to operate not more than three long-distance routes operated by Amtrak. FRA is announcing a public hearing to provide interested persons an opportunity to provide oral comments on the proposal. FRA is also announcing an extension of the comment period for this proceeding to allow time for interested parties to submit written comments in response to views or information provided at the public hearing.

DATES: A public hearing will be held on September 7, 2016, at 1:45 p.m. in Washington, DC. The comment period for the NPRM published on June 22, 2016, (81 FR 40624) is open through August 22, 2016. Comments in response to views or information provided at the public hearing must be received by October 7, 2016.

ADDRESSES: Public Hearing. The public hearing will be held at the U.S. Department of Transportation, 1200 New Jersey Avenue SE., Conference Center Room 7, Washington, DC 20590.

Comments. You may submit comments identified by Docket Number FRA-2016-0023 by any of the following methods:

• Online: Comments should be filed at the Federal eRulemaking Portal, http://www.regulations.gov. Follow the online instructions for submitting comments.

• Fax: 202-493-2251.

• Mail: Docket Management Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Instructions: All submissions must include the agency name, docket name, and docket number or Regulatory Identification Number (RIN) for this rulemaking (RIN 2130-AC60). FRA will post all comments received without change to http://www.regulations.gov, including any personal information provided. Please see the Privacy Act heading in the “Supplementary Information” section of this document for Privacy Act information about any submitted petitions, comments, or materials.

Docket: For access to the docket to read background documents or comments received, go to http://www.regulations.gov at any time or to the U.S. Department of Transportation, Docket Operations, M-30, West Building, Ground Floor, Room W12-140, 1200 New Jersey Avenue SE., Washington, DC 20590, between 9 a.m. and 5 p.m., Monday through Friday, except Federal Holidays.

FOR FURTHER INFORMATION CONTACT: Brandon White, Office of Railroad Policy and Development, Federal Railroad Administration, 1200 New Jersey Avenue SE., Washington, DC 20590, (202) 493-1327, Brandon.White@dot.gov, or Zeb Schorr, Office of Chief Counsel, Federal Railroad Administration, 1200 New Jersey Avenue SE., Washington, DC 20590, (202) 493-6072.

SUPPLEMENTARY INFORMATION: Interested parties are invited to present oral statements and to offer information and views at the hearing. The hearing will be informal and will be conducted by a representative FRA designates under FRA's Rules of Practice (49 CFR 211.25). The hearing will be a non-adversarial proceeding. Therefore, there will be no cross examination of persons presenting statements or offering evidence. An FRA representative will make an opening statement outlining the scope of the hearing. After all initial statements are completed those persons wishing to make a brief rebuttal will be given the opportunity to do so in the same order the initial statements were made. FRA will announce additional procedures necessary to conduct the hearing, at the hearing. The purpose of this hearing is to receive oral comments in response to an NPRM for a competitive passenger rail service pilot program. FRA will add a transcript of the discussions to the public docket in this proceeding.

Public Participation Procedures. Any person wishing to make a statement at the hearing should notify Mr. White by telephone, email, or in writing, at least 5 working days before the date of the hearing and submit three copies of the oral statement he or she intends to make at the proceeding. The notification should identify the party the person represents, the particular subject(s) the person plans to address, and the time requested. The notification should also provide the participant's mailing address and other contact information. FRA reserves the right to limit participation in the hearing of persons who fail to provide such notification. FRA also reserves the right to limit the duration of presentations if necessary to afford all persons with the opportunity to speak. For information on facilities or services for persons with disabilities, or to request special assistance at the hearing, contact FRA Program Analyst, Mr. Kenton Kilgore, by telephone, email, or in writing, at least at least 5 working days before the date of the hearing. Mr. Kilgore can be reached at Federal Railroad Administration, Office of Railroad Safety, Mail Stop 25, 1200 New Jersey Avenue SE., Washington, DC 20590; (202) 493-6286; or Kenton.Kilgore@dot.gov.

Extension of Comment Period. The comment period for the NPRM is currently open through August 22, 2016. To accommodate the public hearing and afford interested parties the opportunity to submit comments in response to views or information provided at the public hearing, FRA will extend the comment period. FRA must receive comments in response to views or information provided at the public hearing by October 7, 2016.

Privacy Act

Anyone can search the electronic form of any written communications and comments received into any of our dockets by the name of the individual submitting the comment (or signing the document, if submitted on behalf of an association, business, labor union, etc.). See http://www.regulations.gov/#!privacyNotice for the privacy notice of www.regulations.gov. Interested parties may also review DOT's complete Privacy Act Statement in the Federal Register published on April 11, 2000 (65 FR 19477). Under 5 U.S.C. 553(c), DOT solicits comments from the public to better inform its rulemaking process. DOT posts these comments, without edit, including any personal information the commenter provides, to www.regulations.gov, as described in the system of records notice (DOT/ALL-14 FDMS), which can be reviewed at www.dot.gov/privacy.

Issued in Washington, DC, on August 16, 2016.
Jamie Rennert,
Office Director, Office of Program Delivery.

[FR Doc. 2016-19910 Filed 8-19-16; 8:45 am]

BILLING CODE 4910-06-P